DEPARTMENT OF TRANSPORTATION

Federal Aviation Administration

14 CFR Part 39

[Docket No. FAA-2026-0025; Project Identifier MCAI-2025-01294-R]

RIN 2120-AA64

Airworthiness Directives; Leonardo S.p.a. Helicopters

AGENCY: Federal Aviation Administration (FAA), DOT.

ACTION: Proposed rule; correction.

SUMMARY: The FAA is correcting a Notice of Proposed Rulemaking (NPRM) that was published in the Federal Register. That NPRM proposed to issue an airworthiness directive (AD) that would apply to all Leonardo S.p.a. Model AB139, AW139, and AW189 helicopters. As published, the references to the incorporated material in paragraphs (h)(1) through (4), and paragraph (i) of the NPRM reference an incorrect mandatory continuing airworthiness information (MCAI) identifier. This document corrects that error. In all other respects, the original document remains the same; however, for clarity, the FAA is publishing the entire proposed rule in the Federal Register.

DATES: The last date for submitting comments to the NPRM (91 FR 3081, January 26, 2026) remains March 12, 2026.

ADDRESSES:

AD Docket: You may examine the AD docket at regulations.gov under Docket No. FAA-2026-0025 or in person at Docket Operations between 9 a.m. and 5 p.m., Monday through Friday, except Federal holidays. The AD docket contains this proposed rule; correction, the MCAI, any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this proposed AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110.

FOR FURTHER INFORMATION CONTACT: Steven Warwick, Aviation Safety Engineer, FAA, 1600 Stewart Avenue, Suite 410, Westbury, NY 11590; phone: (817) 222-5225; email: steven.r.warwick@faa.gov.

SUPPLEMENTARY INFORMATION:

Comments Invited

The FAA invites you to send any written relevant data, views, or arguments about this proposal. Send your comments using a method listed under ADDRESSES. Include “Docket No. FAA-2026-0025; Project Identifier MCAI-2025-01294-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Steven Warwick, Aviation Safety Engineer, FAA, 1600 Stewart Avenue, Suite 410, Westbury, NY 11590. Any commentary that the FAA receives which is not specifically designated as CBI will be placed in the public docket for this rulemaking.

Background

The FAA issued an NPRM (91 FR 3081, January 26, 2026), that would apply to all Leonardo S.p.a. Model AB139, AW139, and AW189 helicopters.

The NPRM proposed to require repetitively inspecting the left-hand (LH) and right-hand (RH) tube assemblies for Model AB139 and AW139 helicopters, and the LH and RH pedal shaft assemblies for Model AW189 helicopters, and depending on the results of the inspection, corrective actions. The NPRM also proposed to prohibit installing certain parts unless certain requirements are met. The NPRM was prompted by a report of cracks on the LH and RH tube assemblies installed on the brake pedal assemblies. The FAA is proposing this AD to detect and address cracks on the LH and RH tube assemblies installed on the brake pedal assemblies. This unsafe condition, if not addressed, could lead to structural failure of the brake pedal assembly and result in reduced control of the helicopter around the yaw axis.

Material Incorporated by Reference Under 1 CFR Part 51

The FAA reviewed EASA AD 2025-0163, which specifies procedures for repetitive inspections of certain part-numbered LH and RH tube assemblies (for Models AB139 and AW139) and certain part-numbered LH and RH pedal shaft assemblies (for Model AW189) installed on the brake pedal assemblies. Depending on the inspection results, EASA AD specifies procedures for replacing an affected part with a serviceable part or, for the copilot side only, as an alternative to replacing an affected part, installing a temporary serviceable part for the copilot pedal assembly set, performing repetitive inspections, manufacturing and installing a placard, and revising the limitations section of the rotorcraft flight manual (RFM) for the helicopter. EASA AD 2025-0163 also prohibits installing an affected part on any helicopter unless certain requirements are met.

Need for Correction

As published, references to the MCAI specified in the regulatory text of the NPRM are incorrect. Paragraphs (h)(1) through (4) and paragraph (i) of the NPRM, refer to “EASA AD 2024-0228”. The correct reference is “EASA AD 2025-0163”.

No other part of the preamble or regulatory information has been corrected; for clarity the FAA is publishing the entire proposed rule in the Federal Register.

The comment due date of the NPRM remains March 12, 2026.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Corrected]

2. The FAA amends § 39.13 by adding the following new airworthiness directive:

Leonardo S.p.a.: Docket No. FAA-2026-0025; Project Identifier MCAI-2025-01294-R.

(a) Comments Due Date

The FAA must receive comments on this airworthiness directive (AD) by March 12, 2026.

(b) Affected ADs

None.

(c) Applicability

This AD applies to Leonardo S.p.a. Model AB139, AW139, and AW189 helicopters, certificated in any category.

(d) Subject

Joint Aircraft System Component (JASC) Code 6720, Tail Rotor Control System.

(e) Unsafe Condition

This AD was prompted by a report of cracks on the left-hand (LH) and right-hand (RH) tube assemblies installed on the brake pedal assemblies. The FAA is issuing this AD to detect and address cracks on the LH and RH tube assemblies. The unsafe condition, if not addressed, could lead to structural failure of the pedal assembly and result in reduced control of the helicopter around the yaw axis.

(f) Compliance

Comply with this AD within the compliance times specified, unless already done.

(g) Required Actions

(1) Except as specified in paragraphs (h) and (i) of this AD: Comply with all required actions and compliance times specified in, and in accordance with, European Union Aviation Safety Agency AD 2025-0163, dated July 30, 2025 (EASA AD 2025-0163).

(2) For this AD, the owner/operator (pilot) holding at least a private pilot certificate may revise the existing RFM for the helicopter by inserting Appendix 1 of EASA AD 2025-0163 and must enter compliance into the helicopter maintenance records in accordance with 14 CFR 43.9(a) and 91.417(a)(2)(v). The record must be maintained as required by 14 CFR 91.417, 121.380, or 135.439.

(h) Exceptions to EASA AD 2025-0163

(1) Where EASA AD 2025-0163 refers to its effective date, this AD requires using the effective date of this AD.

(2) Where EASA AD 2025-0163 requires compliance in terms of flight hours, this AD requires using hours time-in-service.

(3) Where the material referenced in EASA AD 2025-0163 specifies discarding parts, or scrapping parts, this AD requires removing those parts from service.

(4) This AD does not adopt the “Remarks” section of EASA AD 2025-0163.

(i) No Reporting Requirement

Although the service material referenced in EASA AD 2025-0163 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Steven Warwick, Aviation Safety Engineer, FAA, 1600 Stewart Avenue, Suite 410, Westbury, NY 11590; phone: (817) 222-5225; email: steven.r.warwick@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0163, dated July 30, 2025.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on February 24, 2026.
Steven W. Thompson,
Acting Deputy Director, Compliance & Airworthiness Division, Aircraft Certification Service.

[FR Doc. 2026-03873 Filed 2-25-26; 8:45 am]

BILLING CODE 4910-13-P